NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from December 18, 2008 to December 30, 2008. The last biweekly notice was published on December 30, 2008 (73 FR 79928).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Entergy Nuclear Operations, Inc., Docket No. 50-333, James A. FitzPatrick Nuclear Power Plant, Oswego County, New York

Date of amendment request: September 30, 2008.

Description of amendment request: This is an administrative change which would reflect the creation of new companies as approved by the NRC Order dated July 28, 2008. The amendments would not be implemented until the restructuring transactions have been completed. The amendments would revise the names on the plant licenses to match the names of the new companies. Entergy Nuclear FitzPatrick, LLC would be changed to Enexus Nuclear FitzPatrick, LLC. Entergy Nuclear Operations, Inc. would be changed to EquaGen Nuclear LLC.

Basis for proposed no significant hazards consideration determination: As required by 10 CFR 50.91(a), the licensee has provided its analysis of the issue of no significant hazards consideration, which is presented below:

The proposed amendment would only change the names of the licensees and reflect the referenced NRC Order requirements; principal management and operational staffing for the restructured organization remain largely unchanged. The proposed name changes do not: (a) Involve a significant increase in the probability or consequences of an accident previously evaluated; (b) create the possibility of a new or different kind of accident from any accident previously evaluated; or (c) involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Mark G. Kowal.

FPL Energy, Point Beach, LLC, Docket Nos. 50-266 and 50-301, Point Beach Nuclear Plant, Units 1 and 2, Town of Two Creeks, Manitowoc County, Wisconsin

Date of amendment request: November 25, 2008.

Description of amendment request: Amend Renewed Operating Licenses DPR-24 and DPR-27 for Point Beach Nuclear Plant (PBNP) Units 1 and 2 to incorporate new Large-Break LOCA (LBLOCA) analyses using the realistic LBLOCA methodology contained in NRC-approved WCAP-16009-P-A, “Realistic Large Break LOCA Evaluation Methodology Using Automated Statistical Treatment of Uncertainty Method (ASTRUM),” and to revise Technical Specification (TS) 5.6.4.b to include reference to WCAP-16009-P-A. This request also proposes to implement Technical Specification Task Force (TSTF) Traveler-363A. TSTF-363A eliminates the revision numbers and dates from the list of topical reports in TS 5.6.4.b. TS 5.6.4.b provides the analytical methods used to determine the core operating limits. Relocation of the complete citations to the core operating limits report (COLR) will enable the current revisions of these topical reports to be used.

Basis for proposed no significant hazards consideration determination: As required by 10 CFR 50.91(a), the licensee has provided its analysis of the issue of no significant hazards consideration which is presented below:

1. Do the proposed changes involve a significant increase in the probability or consequences of an accident previously evaluated?

Response: No.

This application proposes to incorporate LBLOCA analyses using the ASTRUM methodology, documented in WCAP-16009-P-A, “Realistic Large Break LOCA Evaluation Methodology Using the Automated Statistical Treatment of Uncertainty Method (ASTRUM)”, in the PBNP licensing basis, add reference to WCAP-16009-P-A in the Technical Specification 5.6.4.b list of approved methodologies for establishing core operating limits, and relocate topical report detailed reference citations from TS 5.6.4.b to the COLR.

Accident analyses are not accident initiators, therefore, this proposed licensing basis change does not involve a significant increase in the probability of an accident. The analyses using ASTRUM demonstrated that the acceptance criteria in 10 CFR 50.46, “Acceptance criteria for emergency core cooling systems for light-water nuclear power reactors,” were met. The NRC has approved WCAP-16009-P-A for application to two-loop Westinghouse plants with upper plenum injection (UPI). Since the PBNP Units 1 and 2 are two-loop Westinghouse plants with UPI and the analysis results meet the 10 CFR 50.46 acceptance criteria, this change does not involve a significant increase in the consequences of an accident.

Addition of the reference to WCAP-16009-P-A in TS 5.6.4.b and relocation of topical report detailed citations to the COLR are administrative changes that do not affect the probability or consequences of an accident previously evaluated.

The changes proposed in this license amendment do not involve a significant increase in the probability or consequences of an accident previously evaluated.

2. Do the proposed changes create the possibility of a new or different kind of accident from any accident previously evaluated?

Response: No.

This license amendment request proposes to incorporate LBLOCA analyses using the ASTRUM methodology, documented in WCAP-16009-P-A, “Realistic Large Break LOCA Evaluation Methodology Using the Automated Statistical Treatment of Uncertainty Method (ASTRUM),” in the PBNP licensing basis, add a reference to WCAP-16009-P-A in the Technical Specification list of approved methodologies for establishing core operating limits, and relocate topical report detailed reference citations from TS 5.6.4.b to the COLR in accordance with approved TSTF-363A.

There are no physical changes being made to the plant as a result of using the Westinghouse ASTRUM analysis methodology in WCAP-16009-P-A for performance of the LBLOCA analyses. No new modes of plant operation are being introduced. The configuration, operation and accident response of the structures or components are unchanged by utilization of the new analysis methodology. Analyses of transient events have confirmed that no transient event results in a new sequence of events that could lead to a new accident scenario. The parameters assumed in the analysis are within the design limits of existing plant equipment.

In addition, employing the Westinghouse ASTRUM LBLOCA analysis methodology does not create any new failure modes that could lead to a different kind of accident. The design of all systems remains unchanged and no new equipment or systems have been installed which could potentially introduce new failure modes or accident sequences. No changes have been made to any reactor protection system or emergency safeguards features instrumentation actuation setpoints.

Based on this review, it is concluded that no new accident scenarios, failure mechanisms or limiting single failures are introduced as a result of the proposed methodology changes.

Addition of the reference to WCAP-16009-P-A in the Technical Specifications is an administrative change that does not create the possibility of a new or different kind of accident. Relocation of topical report detailed citations from the Technical Specifications to the core operating limits report in accordance with approved TSTF-363A is an administrative change that does not create the possibility of a new or different kind of accident.

The licensing basis and Technical Specification changes proposed in this license amendment do not create the possibility of a new or different kind of accident from any previously evaluated.

Do the proposed changes involve a significant reduction in a margin of safety?

Response: No.

This application proposes to incorporate LBLOCA analyses using the ASTRUM methodology, documented in WCAP-16009-P-A, “Realistic Large Break LOCA Evaluation Methodology Using the Automated Statistical Treatment of Uncertainty Method (ASTRUM)”, in the PBNP licensing basis, add a reference to WCAP-16009-P-A in the Technical Specifications list of approved methodologies for establishing core operating limits, and relocate topical report detailed reference citations from Technical Specification 5.6.4.b to the COLR.

The analyses using ASTRUM demonstrated that the applicable acceptance criteria in 10 CFR 50.46, “Acceptance criteria for emergency core cooling systems for light-water nuclear power reactors” are met. Margins of safety for LBLOCAs include quantitative limits for fuel performance established in 10 CFR 50.46. These acceptance criteria and the associated margins of safety are not being changed by this proposed new methodology. The NRC has approved WCAP-16009-P-A for application to two-loop Westinghouse plants with UPI. Since the PBNP is a two-loop Westinghouse plant with UPI and the analysis results meet the 10 CFR 50.46 acceptance criteria, this change does not involve a significant reduction in a margin of safety. The analysis results using this methodology improve the margin of safety of PBNP.

Addition of the reference to WCAP-16009-P-A in the Technical Specifications and implementation of TSTF-363A are administrative changes that do not involve a significant reduction in a margin of safety.

The NRC staff has reviewed the licensee's analysis and, based on this review, it appears that the three standards of 10 CFR 50.92(c) are satisfied. Therefore, the NRC staff proposes to determine that the amendment request involves no significant hazards consideration.

Attorney for licensee: Antonio Fernandez, Esquire, Senior Attorney, FPL Energy Point Beach, LLC, P.O. Box 14000, Juno Beach, FL 33408-0420.

NRC Branch Chief: Lois M. James.

Tennessee Valley Authority, Docket Nos. 50-327 and 50-328, Sequoyah Nuclear Plant, Units 1 and 2, Hamilton County, Tennessee

Date of amendment request: October 21, 2008.

Description of amendment request: The proposed change would revise Sequoyah Nuclear Plant's Updated Final Safety Analysis Report (UFSAR) to require an inspection of each ice condenser within 24 hours of experiencing a seismic event greater than or equal to an operating basis earthquake (i.e., ½ of a safe shutdown earthquake) within the 5-week period after ice basket replenishment is completed. This will confirm that ice condenser lower inlet doors have not been blocked by ice fallout.

The proposed amendment provides a procedural requirement to confirm the ice condenser maintains the ice condenser generic qualification as set forth in the UFSAR. Justification for the use of the proposed procedural requirement is based on reasonable assurance that the ice condenser lower inlet doors will open following a seismic event during the 5-week period and the low probability of a seismic event occurring coincident with or subsequently followed by a design basis accident.

Basis for proposed no significant hazards consideration determination: As required by 10 CFR 50.91(a), the licensee has provided its analysis of the issue of no significant hazards consideration, which is presented below:

1. Does the proposed amendment involve a significant increase in the probability or consequences of an accident previously evaluated?

Response: No.

The analyzed accidents of consideration in regard to changes potentially affecting the ice condenser are a loss-of-coolant accident (LOCA) and a steam or feedwater line break inside containment. The ice condenser is an accident mitigator and is not postulated as being the initiator of a LOCA or high energy line break (HELB). The ice condenser is structurally designed to withstand a Safe Shutdown Earthquake (SSE) plus a Design Basis Accident (DBA) and does not interconnect or interact with any systems that interconnect or interact with the reactor coolant, main steam or feedwater systems. Because the proposed changes do not result in, or require any physical change to the ice condenser that could introduce an interaction with the reactor coolant, main steam or feedwater systems, there can be no change in the probability of an accident previously evaluated.

Under the current licensing basis, the ice condenser ice baskets would be considered fully fused prior to power ascension and the ice condenser would perform its accident mitigation function even if a safe shutdown seismic event occurred coincident with or just preceding the accident. Under the proposed change, there is some finite probability that, within 24 hours following a seismic disturbance, a LOCA or HELB in containment could occur within 5 weeks of the completion of ice basket replenishment. However, several factors provide defense-in-depth and tend to mitigate the potential consequences of the proposed change.

DBAs are not assumed to occur simultaneously with a seismic event. Therefore, the coincident occurrence of a LOCA or HELB with a seismic event is strictly a function of the combined probability of the occurrence of independent events, which in this case is very low. Based on the Probabilistic Risk Assessment model and seismic hazard analysis, the combined probability of occurrence of a seismic disturbance greater than or equal to an OBE [operating basis earthquake] during the 5-week period following ice replenishment coincident with or subsequently followed by a LOCA or HELB during the time required to perform the proposed inspection (24 hours) and if required by technical specifications, complete unit shutdown (37 hours), is less than 3.89E-09 for Sequoyah [Nuclear Plant]. This probability is well below the threshold that is typically considered credible.

Even if ice were to fall from ice baskets during a seismic event occurring coincident with or subsequently followed by an accident, the ice condenser would be expected to perform its intended safety function. There is reasonable assurance that the ice condenser would function properly following a seismic event within the 5-week period due to inherent conservatisms in the 1974 test data, the low likelihood of flow channel and floor drain blockage, and improbable blocking of the lower inlet doors by any potential fallout.

Based on the above, the proposed changes do not involve a significant increase in the probability or consequences of an accident previously evaluated. The ice condenser is expected to perform its intended safety function under all circumstances following a LOCA or HELB in containment.

Therefore, the proposed change does not involve a significant increase in the probability or consequences of an accident previously evaluated.

2. Does the proposed amendment create the possibility of a new or different kind of accident from any accident previously evaluated?

Response: No.

The proposed change affects the assumed timing of a postulated seismic and DBA applied to the ice condenser and provides an alternate methodology to confirm the ice condenser lower inlet doors are capable of opening. As previously discussed, the ice condenser is not postulated as an initiator of any DBA. The proposed change does not impact any plant system, structure or component that is an accident initiator. The proposed change does not involve any hardware changes to the ice condenser or other changes that could create new accident mechanisms. Therefore, there can be no new or different accidents created from those previously identified and evaluated.

Therefore, the proposed change does not create the possibility of a new or different kind of accident from any previously evaluated.

3. Does the proposed amendment involve a significant reduction in a margin of safety?

Response: No.

Margin of safety is related to the confidence in the ability of the fission product barriers to perform their design functions during and following an accident situation. These barriers include the fuel cladding, the reactor coolant system, and the containment system. The performance of the fuel cladding and the reactor coolant system will not be impacted by the proposed change.

The requirement to inspect the ice condensers within 24 hours of experiencing seismic activity greater than or equal to an OBE during the 5-week period following the completion of ice basket replenishment will confirm that the ice condenser lower inlet doors are capable of opening. This inspection will confirm that the ice condenser doors remain fully capable of performing their intended safety function under credible circumstances.

The proposed change affects the assumed timing of a postulated seismic and DBA applied to the ice condenser and provides an alternate methodology in confirming the ice condenser lower inlet doors are capable of opening. As previously discussed, the combined probability of occurrence of a LOCA or HELB and a seismic disturbance greater than or equal to an OBE during the “period of potential exposure” is less than 3.89E-09 for Sequoyah. This probability is well below the threshold that is typically considered credible.

Therefore, the proposed change does not involve a significant reduction in the margin of safety. The SQN [Sequoyah Nuclear Plant] ice condenser will perform its intended safety function under credible circumstances.

The changes proposed in this license amendment request (LAR) do not make any physical alteration to the ice condensers, nor does it affect the required functional capability of the ice condenser in any way. The intent of the proposed change to the UFSAR is to eliminate an overly restrictive waiting period prior to unit ascent to power operations following the completion of ice basket replenishment. The required inspection of the ice condenser following a seismic event greater than or equal to an OBE will confirm that the ice condenser lower inlet doors will continue to fully perform their safety function as assumed in the SQN safety analyses.

Thus, it can be concluded that the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Thomas H. Boyce.

Tennessee Valley Authority, Docket Nos. 50-327 and 50-328, Sequoyah Nuclear Plant, Units 1 and 2, Hamilton County, Tennessee

Date of amendment request: October 23, 2008.

Description of amendment request: The requested change is a partial adoption of Technical Specification Task Force Change Traveler No. 491 (TSTF-491), Revision 2, “Removal of Main Steam and Feedwater Valve Isolation Times.” The proposed change only revises TS 3.7.1.5, “Main Steam Line Isolation Valves,” by relocating the main steam isolation valve closure time from Surveillance Requirement (SR) 4.7.1.5.1 to the Bases. The proposed amendment deviates from TSTF-491 in that the current Sequoyah Nuclear Plant (SQN) TS 3.7.1.6, “Main Feedwater Isolation, Regulating, and Bypass Valves,” and associated surveillance requirements do not include the main feedwater valve closure times, and thus, TSTF-491 changes to TS 3.7.1.6 would not apply to the SQN TSs without modification. Because of this deviation from TSTF-491, the proposed amendment will be processed as a typical amendment.

Basis for proposed no significant hazards consideration determination: To satisfy the requirements of 10 CFR 50.91(a), the licensee's amendment request incorporates by reference the proposed no significant hazards consideration (NSHC) published in the Federal Register on October 5, 2006 (71 FR 58884), as part of the Consolidated Line Item Improvement Process associated with TSTF-491. That NSHC is reproduced below:

1. Does the proposed amendment involve a significant increase in the probability or consequences of an accident previously evaluated?

Response: No.

The proposed change allows relocating main steam and main feedwater valve isolation times to the Licensee Controlled Document that is referenced in the Bases. The proposed change is described in Technical Specification Task Force (TSTF) Standard TS Change Traveler TSTF-491 related to relocating the main steam and main feedwater valves isolation times to the Licensee Controlled Document that is referenced in the Bases and replacing the isolation time with the phrase, “within limits.”

The proposed change does not involve a physical alteration of the plant (no new or different type of equipment will be installed). The proposed changes relocate the main steam and main feedwater isolation valve times to the Licensee Controlled Document that is referenced in the Bases. The requirements to perform the testing of these isolation valves are retained in the TS. Future changes to the Bases or licensee-controlled document will be evaluated pursuant to the requirements of 10 CFR 50.59, “ Changes, test and experiments,” to ensure that such changes do not result in more than minimal increase in the probability or consequences of an accident previously evaluated.

The proposed changes do not adversely affect accident initiators or precursors nor alter the design assumptions, conditions, and configuration of the facility or the manner in which the plant is operated and maintained. The proposed changes do not adversely affect the ability of structures, systems and components (SSCs) to perform their intended safety function to mitigate the consequences of an initiating event within the assumed acceptance limits. The proposed changes do not affect the source term, containment isolation, or radiological consequences of any accident previously evaluated. Further, the proposed changes do not increase the types and the amounts of radioactive effluent that may be released, nor significantly increase individual or cumulative occupation/public radiation exposures.

Therefore, the changes do not involve a significant increase in the probability or consequences of any accident previously evaluated.

2. Does the proposed amendment create the possibility of a new or different kind of accident from any accident previously evaluated?

Response: No.

The proposed changes relocate the main steam and main feedwater valve isolation times to the Licensee Controlled Document that is referenced in the Bases. In addition, the valve isolation times are replaced in the TS with the phrase, “within limits.” The changes do not involve a physical altering of the plant (i.e., no new or different type of equipment will be installed) or a change in methods governing normal plant operation. The requirements in the TS continue to require testing of the main steam and main feedwater isolation valves to ensure the proper functioning of these isolation valves.

Therefore, the changes do not create the possibility of a new or different kind of accident from any previously evaluated.

3. Does the proposed amendment involve a significant reduction in a margin of safety?

Response: No.

The proposed changes relocate the main steam and main feedwater valve isolation times to the Licensee Controlled Document that is referenced in the Bases. In addition, the valve isolation times are replaced in the TS with the phrase, “within limits.” Instituting the proposed changes will continue to ensure the testing of main steam and main feedwater isolation valves. Changes to the Bases or License Controlled Document are performed in accordance with 10 CFR 50.59. This approach provides an effective level of regulatory control and ensures that main steam and feedwater isolation valve testing is conducted such that there is no significant reduction in the margin of safety.

The margin of safety provided by the isolation valves is unaffected by the proposed changes since there continue to be TS requirements to ensure the testing of main steam and main feedwater isolation valves. The proposed changes maintain sufficient controls to preserve the current margins of safety.

The NRC staff has reviewed this analysis. Based on this review, it appears the licensee's proposed amendment is bounded by the original NSHC and that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Thomas H. Boyce.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

Carolina Power & Light Company, Docket Nos. 50-325 and 50-324, Brunswick Steam Electric Plant, Units 1 and 2, Brunswick County, North Carolina

Date of application for amendments: June 19, 2008, as supplemented by letter dated October 1, 2008.

Brief description of amendments: The amendments (1) revise the technical specifications (TS) control rod notch surveillance requirement (SR) frequency in TS 3.1.3, “Control Rod Operability,” and (2) revise Example 1.4-3 in Section 1.4, “Frequency,” to clarify the applicability of the 1.25 surveillance test extension. The licensee is proposing to adopt the approved Technical Specification Task Force (TSTF) change traveler TSTF-475, Revision 1, “Control Rod Notch Testing Frequency.” A notice of availability of TSTF-475, Revision 1, was published in the Federal Register on November 13, 2007 (72 FR 63935).

In addition, the proposed amendment would remove Note 2 associated with SR 3.1.3.3 for Unit 1, which is a cycle-specific note and has expired. This change is administrative in nature and does not affect the no significant hazards consideration determination.

Date of issuance: December 15, 2008.

Effective date: As of the date of issuance and shall be implemented within 60 days.

Amendment Nos.: 250 and 278.

Facility Operating License Nos. DPR-71 and DPR-62: Amendments change the technical specifications.

Date of initial notice in Federal Register: October 7, 2008 (73 FR 58671). The supplemental letter dated October 1, 2008, provided additional information that clarified the application, did not expand the scope of the application as originally noticed, and did not change the staff's original proposed no significant hazards consideration determination as published in the Federal Register.

The Commission's related evaluation of the amendments are contained in a safety evaluation dated December 15, 2008.

No significant hazards consideration comments received: No.

Dominion Nuclear Connecticut, Inc., et al., Docket Nos. 50-245, 50-336, and 50-423, Millstone Power Station, Units 1, 2, and 3, New London County, Connecticut

Date of application for amendment: August 21, 2008.

Brief description of amendment: The amendments remove references to and limits imposed by Nuclear Regulatory Commission Generic Letter (GL) 82-12, “Nuclear Power Plant Staff Working Hours,” from the subject plants' technical specifications. The guidelines have been superseded by the requirements of Title 10 of the Code of Federal Regulations, Part 26 (10 CFR 26), Subpart I, “Managing Fatigue.”

Date of issuance: December 17, 2008.

Effective date: As of the date of issuance and shall be implemented no later than October 1, 2009.

Amendment Nos.: 116; 308; and 247.

Facility Operating License No. DPR-21, Renewed Facility Operating License No. DPR-65, and Renewed Facility Operating License No. NPF-49: Amendments revised the License and Technical Specifications.

Date of initial notice in Federal Register: September 23, 2008 (73 FR 54864).

The Commission's related evaluation of the amendment is contained in a Safety Evaluation dated December 17, 2008.

No significant hazards consideration comments received: No.

Entergy Nuclear Operations, Inc., Docket Nos. 50-247 and 50-286, Indian Point Nuclear Generating Unit Nos. 2 and 3, Westchester County, New York

Date of application for amendment: December 18, 2007, as supplemented by letters dated September 18 and October 28, 2008.

Brief description of amendment: The amendments revise the Technical Specifications (TSs) by adding a Control Room Habitability Program and revising the TS on the Control Room Ventilation System in accordance with Technical Specifications Task Force (TSTF) change traveler TSTF-448, “Control Room Habitability.” License conditions are added regarding the initial performance of the new surveillance.

Date of issuance: December 22, 2008.

Effective date: As of the date of issuance, and shall be implemented within 30 days.

Amendment No.: 258 and 239.

Facility Operating License Nos. DPR-26 and DPR-64: The amendment revised the License and the Technical Specifications.

Date of initial notice in Federal Register: March 25, 2008 (73 FR 15785). The September 18 and October 28, 2008, supplements provided additional information that clarified the application, did not expand the scope of the application as originally noticed, and did not change the NRC staff's original proposed no significant hazards consideration determination as published in the Federal Register.

The Commission's related evaluation of the amendment is contained in a Safety Evaluation dated December 22, 2008.

No significant hazards consideration comments received: No.

Entergy Nuclear Operations, Inc., Docket Nos. 50-247 and 50-286, Indian Point Nuclear Generating Unit Nos. 2 and 3 (IP2 and IP3), Westchester County, New York

Date of application for amendment: March 13, 2008.

Brief description of amendment: The amendment revises the licensing basis for passive failures in fluid systems for IP2 and IP3 such that the loss-of-coolant accident (LOCA) recirculation phase single passive failure is assumed to occur 24 hours or greater following initiation of a LOCA. Also, the IP2 single passive failure licensing basis for the component cooling water system is revised such that a passive failure is assumed to occur 24 hours or greater following initiation of a LOCA.

Date of issuance: December 4, 2008.

Effective date: As of the date of issuance, and shall be implemented within 30 days.

Amendment No.: 257 and 238.

Facility Operating License Nos. DPR-26 and DPR-64: The amendment revised the License and the Updated Final Safety Analysis Report.

Date of initial notice in Federal Register: July 1, 2008 (73 FR 37503).

The Commission's related evaluation of the amendment is contained in a Safety Evaluation dated December 4, 2008.

No significant hazards consideration comments received: No.

Entergy Nuclear Operations, Inc., Docket No. 50-255, Palisades Plant, Van Buren County, Michigan

Date of application for amendment: January 31, 2008, as supplemented by letter dated July 30, 2008.

Brief description of amendment: The amendment revises the description of fuel assemblies specified in Technical Specification (TS) 4.2.1 and adds the approved AREVA licensed topical report BAW-10240(P)-A, “Incorporation of M5 Properties in Framatome ANP Approved Methods,” to the analytical methods referenced in TS 5.6.5.b to permit the use of M5 alloy and supporting analytical methods in future reload designs.

Date of issuance: December 12, 2008.

Effective date: As of the date of issuance and shall be implemented within 90 days.

Amendment No.: 234.

Facility Operating License No. DPR-20: Amendment revised the Facility Operating License and Technical Specifications.

Date of initial notice in Federal Register: March 25, 2008 (73 FR 15786). The supplement dated July 30, 2008, provided additional information that clarified the application, did not expand the scope of the application as originally noticed, and did not change the staff's original proposed no significant hazards consideration determination as published in the initial Federal Register notice. The Commission's related evaluation of the amendment is contained in a Safety Evaluation dated December 12, 2008.

No significant hazards consideration comments received: No.

Entergy Nuclear Operations, Inc. Docket No. 50-255, Palisades Plant, Van Buren County, Michigan

Date of application for amendment: May 5, 2008.

Brief description of amendment: The amendment would revise renewed facility operating license DPR-20 to correct an error, generated during Palisades license transfer approval on April 11, 2007, and also remove several outdated license conditions pertaining to surveillance requirements.

Date of issuance: December 15, 2008.

Effective date: As of the date of issuance and shall be implemented within 90 days.

Amendment No.: 235.

Facility Operating License No. DPR-20: Amendment revised the Technical Specifications.

Date of initial notice in Federal Register: September 9, 2008 (73 FR 52416).

The Commission's related evaluation of the amendment is contained in a Safety Evaluation dated December 15, 2008.

No significant hazards consideration comments received: No.

FirstEnergy Nuclear Operating Company, et al., Docket Nos. 50-334 and 50-412, Beaver Valley Power Station, Unit Nos. 1 and 2 (BVPS-1 and 2), Beaver County, Pennsylvania

Date of application for amendment: December 21, 2007, as supplemented on August 1, 2008.

Brief description of amendment: The amendment revises several Technical Specification (TS) sections to allow relaxations of various Reactor Trip System/Engineered Safety Feature (RTS/ESF) logic completion times, bypass test times, allowable outage times, and surveillance testing intervals that were previously reviewed and approved by NRC under Westinghouse Reports WCAP-14333-P-A, “Probabilistic Risk Analysis of RPS [reactor protection system] and ESFAS [ESF Actuation System] Test Times and Completion Times,” and WCAP-15376-P-A, “Risk-Informed Assessment of the RTS and ESFAS Surveillance Test Intervals and Reactor Trip Breaker Test and Completion Times.”

Date of issuance: December 29, 2008.

Effective date: As of the date of issuance and shall be implemented within 90 days of issuance.

Amendment Nos.: 282 and 166.

Facility Operating License Nos. DPR-66 and NPF-73: Amendments revises the License and Technical Specifications.

Date of initial notice in Federal Register: June 10, 2008 (73 FR 32745). The August 1, 2008, supplemental letter provided clarifying information that was within the scope of the initial notice and did not change the initial proposed no significant hazards consideration determination.

The Commission's related evaluation of the amendment is contained in a Safety Evaluation dated December 29, 2008.

No significant hazards consideration comments received: No.

Indiana Michigan Power Company, Docket Nos. 50-315 and 50-316, Donald C. Cook Nuclear Plant, Units 1 and 2 (CNP-1 and CNP-2), Berrien County, Michigan

Date of application for amendment: December 27, 2007, as supplemented on July 28, 2008.

Brief description of amendment: The amendment establishes more effective and appropriate action, surveillance, and administrative requirements related to ensuring habitability within the control room envelope in accordance with the NRC-approved Technical Specification Task Force Traveler (TSTF)-448, Revision 3, and changes the technical specifications (TS) related to the control room emergency ventilation system in TS Section 3.7.10, “Control Room Emergency Ventilation (CREV) System,” and TS Section 5.5.16, “Control Room Envelope Habitability Program.” The amendment also adds a license condition to support implementation of the TS change.

Date of issuance: December 30, 2008.

Effective date: As of the date of issuance to be implemented within 180 days.

Amendment Nos.: 307 (CNP-1), 289 (CNP-2).

Facility Operating License Nos. DPR-58 and DPR-74: Amendments revised the Renewed Operating Licenses and Technical Specifications.

Date of initial notice in Federal Register: January 29, 2008 (73 FR 5224). The supplemental letter dated July 28, 2008, provided information that clarified the application, did not expand the scope of the application as originally noticed, and did not change the Nuclear Regulatory Commission staff's initial proposed no significant hazards consideration determination.

The Commission's related evaluation of the amendment is contained in a Safety Evaluation dated December 30, 2008.

No significant hazards consideration comments received: No.

Nine Mile Point Nuclear Station, LLC, Docket Nos. 50-220 and 50-410, Nine Mile Point Nuclear Station, Unit Nos. 1 and 2 (NMP 1 and 2), Oswego County, New York

Date of application for amendment: June 24, 2008.

Brief description of amendments: The amendments revise the Technical Specifications (TSs) by (1) replacing the references to Section XI of the American Society of Mechanical Engineers (ASME) Boiler and Pressure Vessel Code (Code) with references to the ASME Code for Operation and Maintenance of Nuclear Power Plants (OM Code) in the applicable TS section for the Inservice Testing (IST) Program for NMP 1 TS 6.5.4 and NMP 2 TS 5.5.6; and (2) revising the allowance to extend IST frequencies by 25 percent to clearly state that the allowance is applicable to IST frequencies of 2 years or less. The proposed changes are based on TS Task Force (TSTF) Standard Technical Specification Change Traveler 479-A, Revision 0, “Changes to Reflect Revision of 10 CFR 50.55a,” as modified by TSTF-497-A, Revision 0, “Limit Inservice Testing Program SR 3.0.2 Application to Frequencies of 2 Years or Less.”

Date of issuance: December 22, 2008.

Effective date: As of the date of issuance to be implemented within 30 days.

Amendment Nos.: 199 and 129.

Renewed Facility Operating License Nos. DPR-063 and NPF-069: The amendments revise the License and TSs.

Date of initial notice in Federal Register: October 7, 2008 (73 FR 58674).

The Commission's related evaluation of the amendment is contained in a Safety Evaluation dated December 22, 2008.

No significant hazards consideration comments received: No.

Pacific Gas and Electric Company, Docket Nos. 50-275 and 50-323, Diablo Canyon Nuclear Power Plant, Unit Nos. 1 and 2, San Luis Obispo County, California

Date of application for amendments: December 26, 2007, as supplemented on November 25, 2008.

Brief description of amendments: The amendments revised the action and surveillance requirements in Technical Specification (TS) 3.7.10, “Control Room Ventilation System (CRVS),” and add a new administrative controls program, TS 5.5.18, “Control Room Envelope Habitability Program.” The amendments are consistent with the TS traveler TSTF-448, “Control Room Habitability,” Revision 3.

Date of issuance: December 23, 2008.

Effective date: As of its date of issuance and shall be implemented within 180 days from the date of issuance.

Amendment Nos.: Unit 1-201; Unit 2-202.

Facility Operating License Nos. DPR-80 and DPR-82: The amendments revised the Facility Operating Licenses and Technical Specifications.

Date of initial notice in Federal Register: January 29, 2008 (73 FR 5227). The supplement dated November 25, 2008, provided additional information that clarified the application, did not expand the scope of the application as originally noticed, and did not change the staff's original proposed no significant hazards consideration determination as published in the Federal Register.

The Commission's related evaluation of the amendments is contained in a Safety Evaluation dated December 23, 2008.

No significant hazards consideration comments received: No.

PSEG Nuclear LLC, Docket No. 50-354, Hope Creek Generating Station, Salem County, New Jersey

Date of application for amendment: July 30, 2008, as supplemented by letters dated September 29, and October 20, 2008.

Brief description of amendment: The amendment revises Technical Specification (TS) 3.8.3, “Onsite Power Distribution Systems,” to establish a separate TS Action statement for inoperable inverters associated with the 120 volt alternating current distribution panels. The amendment extends the allowed outage time for inoperable inverters from 8 hours to 24 hours.

Date of issuance: December 18, 2008.

Effective date: As of the date of issuance, to be implemented within 30 days.

Amendment No.: 175.

Facility Operating License No. NPF-57: The amendment revised the TSs and the License.

Date of initial notice in Federal Register: September 9, 2008 (73 FR 52421). The letters dated September 29, and October 20, 2008, provided clarifying information that did not change the initial proposed no significant hazards consideration determination or expand the application beyond the scope of the original Federal Register notice.

The Commission's related evaluation of the amendment is contained in a Safety Evaluation dated December 18, 2008.

No significant hazards consideration comments received: No

Tennessee Valley Authority, Docket No. 50 390, Watts Bar Nuclear Plant, Unit 1, Rhea County, Tennessee

Date of application for amendment: September 4, 2008.

Brief description of amendment: The amendment revises the Technical Specifications (TS) to adopt TS Task Force (TSTF) Change Traveler TSTF-447, Revision 1, “Elimination of Hydrogen Recombiners and Change to Hydrogen and Oxygen Monitors.”

Date of issuance: December 23, 2008.

Effective date: As of the date of issuance and shall be implemented within 60 days of issuance.

Amendment No.: 72.

Facility Operating License No. NPF-90: Amendment revises the TSs and Facility Operating License.

Date of initial notice in Federal Register: October 21, 2008 (73 FR 62569).

The Commission's related evaluation of the amendment is contained in a Safety Evaluation dated December 23, 2008.

No significant hazards consideration comments received: No.

Union Electric Company, Docket No. 50-483, Callaway Plant, Unit 1, Callaway County, Missouri

Date of application for amendment: December 28, 2007.

Brief description of amendment: The amendment revised Technical Specification (TS) 3.7.2, “Main Steam Isolation Valves (MSIVs),” and TS Table 3.3.2-1, “Engineered Safety Feature Actuation System Instrumentation.”

Date of issuance: December 18, 2008.

Effective date: As of its date of issuance and shall be implemented within 90 days from the date of issuance.

Amendment No.: 189.

Facility Operating License No. NPF-30: The amendment revised the Operating License and Technical Specifications.

Date of initial notice in Federal Register : March 25, 2008 (73 FR 15790).

The Commission's related evaluation of the amendment is contained in a Safety Evaluation dated December 18, 2008.

No significant hazards consideration comments received: No.

Virginia Electric and Power Company, et al., Docket No. 50-281, Surry Power Station, Unit 2, Surry County, Virginia

Date of application for amendment: December 17, 2007, as supplemented on April 24, 2008, and June 27, 2008.

Brief Description of amendment: The amendment revised Technical Specification (TS) 4.4, pertaining to the containment leak rate testing program. The TS change permitted a one-time 5-year extension to the once per 10-year frequency of the performance-based leakage rate testing program for Type A tests, which are done in accordance with Regulatory Guide (RG) 1.163, “Performance-Based Containment Leak-Test Program.” This one time exception to the RG 1.163 requirement allows the next Type A test to be performed no later than October 26, 2015.

Date of issuance: December 18, 2008.

Effective date: As of the date of issuance and shall be implemented within 60 days.

Amendment No.: 263.

Renewed Facility Operating License No. DPR-37: Amendment changed the license and the technical specifications.

Date of initial notice in Federal Register: January 15, 2008 (73 FR 2551).

The supplemental letters dated April 24, 2008, and June 27, 2008, provided additional information that clarified the application, did not expand the scope of the application as originally noticed, and did not change the staff's original proposed no significant hazards consideration determination. The Commission's related evaluation of the amendment is contained in a Safety Evaluation dated December 18, 2008.

No significant hazards consideration comments received: No.

Wolf Creek Nuclear Operating Corporation, Docket No. 50-482, Wolf Creek Generating Station, Coffey County, Kansas

Date of amendment request: January 15, 2008, as supplemented by letter dated October 27, 2008.

Brief description of amendment: The amendment modified the Technical Specification (TS) to establish more effective and appropriate action, surveillance, and administrative requirements related to ensuring the habitability of the control room envelope (CRE) in accordance with U.S. Nuclear Regulatory Commission (NRC)-approved TS Task Force (TSTF) Standard Technical Specification change traveler TSTF-448, Revision 3, “Control Room Habitability.” Specifically, the amendment modified TS 3.7.10, “Control Room Emergency Ventilation System (CREVS),” and established a CRE habitability program in TS Section 5.5, “Administrative Controls—Programs and Manuals.”

Date of issuance: December 24, 2008.

Effective date: As of the date of issuance and shall be implemented within 90 days from the date of issuance.

Amendment No.: 179.

Facility Operating License No. NPF-42. The amendment revised the Operating License and Technical Specifications.

Date of initial notice in Federal Register: February 12, 2008 (73 FR 8072). The supplemental letter dated October 27, 2008, provided additional information that clarified the application, did not expand the scope of the application as originally noticed, and did not change the staff's original proposed no significant hazards consideration determination as published in the Federal Register.

The Commission's related evaluation of the amendment is contained in a Safety Evaluation dated December 24, 2008.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr.resource@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007, (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer ™ to access the Electronic Information Exchange (EIE), a component of the E-Filing system. The Workplace Forms Viewer ™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville, Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

Tennessee Valley Authority, Docket Nos. 50-327 and 50-328, Sequoyah Nuclear Plant, Units 1 and 2, Hamilton County, Tennessee

Date of amendment request: November 12, 2008.

Description of amendment request: These amendments revise Technical Specification (TS) 3.3.3.1, “Radiation Monitoring,” and TS 3.4.6.1, “Reactor Coolant System Leakage Detection Systems,” at each unit to remove the requirement for one containment atmosphere gaseous radioactivity monitor to be operable in Modes 1, 2, 3 and 4. The requirement for one containment atmosphere particulate radioactivity monitor and one containment pocket sump level monitor to be operable in Modes 1, 2, 3 and 4 will remain. Additionally, the amendments make corresponding changes to Surveillance Requirements 4.3.3.1 and 4.4.6.1 and modifications to existing TS Limiting Condition for Operation (LCO) 3.4.6.1 action statements for each unit. Because the licensee was in a 30-day TS action statement completion time, these changes were processed as an exigent change in order to prevent an unnecessary shutdown and to allow the continued safe operation of the units.

Date of issuance: December 4, 2008.

Effective date: This license amendment is effective as of its date of issuance, to be implemented no later than 60 days after issuance.

Amendment Nos.: 322 and 314.

Facility Operating License Nos. (DPR-77 and DPR-79): Amendment revises the technical specifications.

Public comments requested as to proposed no significant hazards consideration (NSHC): Yes. Public notice of the proposed amendments was published in the The Chattanooga Times Free Press newspaper, located in Chattanooga, Tennessee on November 26, 2008. The notice provided an opportunity to submit comments on the Commission's proposed NSHC determination. No comments have been received.

The Commission's related evaluation of the amendment, finding of exigent circumstances, state consultation, and final NSHC determination are contained in a safety evaluation dated December 4, 2008.

Attorney for licensee: General Counsel, Tennessee Valley Authority, 400 West Summit Hill Drive, ET 11A, Knoxville, Tennessee 37902.

NRC Branch Chief: Thomas H. Boyce.

Dated at Rockville, Maryland, this 31st day of December 2008.
For the Nuclear Regulatory Commission.
Robert A. Nelson,
Deputy Director, Division of Operating Reactor Licensing, Office of Nuclear Reactor Regulation.

[FR Doc. E9-35 Filed 1-12-09; 8:45 am]

BILLING CODE 7590-01-P